DEPARTMENT OF ENERGY

Western Area Power Administration

Granby Pumping Plant-Windy Gap Transmission Line Rebuild Project, Grand County, CO

AGENCY: Western Area Power Administration, DOE.

ACTION: Notice of Intent to Prepare an Environmental Impact Statement (EIS) and Conduct Scoping; Notice of Floodplain and Wetlands Involvement.

SUMMARY: The Western Area Power Administration (Western), U.S. Department of Energy (DOE), intends to prepare an Environmental Impact Statement (EIS) for rebuilding the Granby Pumping Plant-Windy Gap transmission line in Grand County, Colorado. The U.S. Forest Service (USFS) will participate in the preparation of the EIS, which will address the proposed removal of about 12 miles of 69-kilovolt (kV) transmission line, the construction and operation of about 12 miles of new 138-kV double-circuit transmission line (operated at 69/138-kV), and adding a second power transformer. Input for the scope of the EIS may be provided in writing or at an open-house scoping meeting in the project area.

DATES: An open-house public scoping meeting will be held Thursday, August 30, 2007, from 4 p.m. to 7 p.m. in Granby, Colorado. The public scoping period starts with the publication of this notice in the Federal Register and closes at midnight on September 17, 2007. To be assured of consideration, all comments or suggestions regarding the appropriate scope must be received by the end of the scoping period.

ADDRESSES: The open-house public scoping meeting will be held at Mountain Parks Electric, Inc., 321 West Agate Avenue, Granby, CO 80446-0170. Written comments regarding the project should be addressed to Mr. Rodney Jones, NEPA Document Manager, Western Area Power Administration, Rocky Mountain Region, P.O. Box 3700, Loveland, CO 80539-3003; fax (970) 461-7213, or e-mail GPPWGP@wapa.gov.

FOR FURTHER INFORMATION CONTACT: For information about the proposed project, to be added to the project mailing list, or to request a copy of the EIS, contact Mr. Rodney Jones at the address provided above or at toll-free telephone (800) 472-2306. For general information on DOE's NEPA review procedures or status of a NEPA review, contact Ms. Carol M. Borgstrom, Director of NEPA Policy and Compliance, GC-20, U.S. Department of Energy, 1000 Independence Avenue, SW., Washington, DC 20585, telephone (202) 586-4600 or (800) 472-2756.

SUPPLEMENTARY INFORMATION: Western is a power marketing agency of DOE that markets Federal electric power to statutorily defined customers, including project use, municipalities, irrigation districts, and Native American tribes. Western initially determined that an Environmental Assessment (EA) would be prepared for the proposed Granby Pumping Plant-Windy Gap Transmission Line Rebuild Project on February 25, 2005. Western held open-house scoping meetings on July 28, 2005, and November 15, 2006. The public expressed numerous concerns about the impacts of the project. Based on a review of the public's concerns, Western subsequently determined that an EIS would be prepared.

The EIS will address the environmental impacts of the proposal to remove about 12 miles of existing 69-kV transmission line and the construction and operation of about 12 miles of new 138-kV double-circuit transmission line (which would be operated at 69/138-kV), and adding a second power transformer. Alternatives, including the no action alternative, will also be addressed in the EIS. Western's EIS process will comply with NEPA (42 U.S.C. 4321-4347, as amended), Council on Environmental Quality regulations for implementing NEPA (40 Code of Federal Regulations [CFR] parts 1500-1508) and DOE NEPA implementing procedures (10 CFR part 1021). Because the proposed project may involve action in floodplains, the EIS will include a floodplain assessment and floodplain statement of findings following DOE regulations for compliance with floodplain and wetlands environmental review requirements (10 CFR part 1022).

Description

Western's Rocky Mountain Region proposes to rebuild and upgrade the Granby Pumping Plant-Windy Gap 69-kV transmission line, between the Windy Gap Substation and the Granby Pumping Plant, a distance of approximately 11.7 miles. The transmission line, which was constructed on wood-pole H-frame structures, is located in Grand County, Colorado, near the towns of Granby and Grand Lake. Other participants in the project include Tri-State Generation and Transmission, Inc. (Tri-State) and the Northern Colorado Water Conservancy District (NCWCD).

Western's Granby Pumping Plant-Windy Gap 69-kV transmission line has been in operation approximately 65 years. It supplies electrical power to the Colorado-Big Thompson Project (C-BT) facilities and electrical substations operated by Mountain Parks Electric, Inc. (MPEI), a Tri-State member operating company.

The area transmission system has also been served by the Bureau of Reclamation's (Reclamation) Adams Tunnel 69-kV cable for the past 50 years, and the cable is at the end of its planned service life. The Adams Tunnel 69-kV cable provides Tri-State with a second power source for MPEI loads. In 1992, Western and Reclamation studied costs, engineering requirements and electrical system constraints for replacing the Adams Tunnel cable in anticipation of its eventual failure. In 1994, Western and Reclamation decided not to replace the cable if it fails.

For electrical service reliability, Tri-State must maintain a second source of power for MPEI loads. The result of systems studies by both Western and Tri-State demonstrated electrical system reliability improvements when a new 138-kV transmission line was added between the Windy Gap and Granby substations.

The NCWCD expressed interest in extending the 138-kV transmission line directly to C-BT Project facilities at Granby Pumping Plant to allow better voltage support for motor starting at Granby Pumping Plant.

The proposed project includes the following actions.

• Remove 10.0 miles of 69-kV circuit: Windy Gap Substation-Stillwater Tap.

• Remove 1.7 miles of 69-kV circuit: Stillwater Tap to Granby-Granby Pumping Plant Substation.

• Remove three 69-kV line switches at Granby Tap.

• Construct 10.0 miles of 138-kV double-circuit transmission line with overhead fiber optic ground wire (operated at 69/138-kV): Windy Gap Substation-Stillwater Tap.

• Construct 1.7 miles of 138-kV double-circuit transmission line with overhead fiber optic ground wire (operated at 69/138-kV): Stillwater Tap-Granby Pumping Plant Substation.

• Install 69-kV three-way line switches at new Willow Creek Tap (replaces Granby Tap).

• Install 69-kV three-way line switches at Stillwater Tap.

• Construct a new 138/69-kV Granby Pumping Plant Substation, consisting of two circuit breakers with 138-kV main and transfer busses and a 138/69-kV power transformer.

• Install a new 69-kV circuit breaker at the existing 69/6.9-kV Granby Pumping Plant Substation.

• Install a new 138-kV circuit breaker bay at the Windy Gap Substation.

The right-of-way for the existing transmission line is generally 30-feet wide, which is inadequate for new transmission line construction and maintenance. Some segments of the proposed rebuilt and upgraded transmission line would be constructed on new rights-of-way on alternative alignments. Remaining segments of the transmission line would be constructed on existing rights-of-way that will be widened to accommodate construction, operation, and maintenance.

The proposed substation site for the new 138/69-kV Granby Pumping Plant Substation would be approximately 200 feet by 150 feet in area, and located entirely on Reclamation property.

No Action Alternative

Under the No Action alternative, none of the proposed facilities would be constructed, and the existing 69-kV transmission line would be left in place. Different transmission projects could be proposed by other entities to strengthen the electrical system in the project area.

Agency Responsibilities

Western has determined that an EIS is required under DOE NEPA implementing procedures, 10 CFR 1021, in light of the public's concerns about potential impacts of the project. Western will be the lead Federal agency for preparing the EIS, as defined in 40 CFR 1501.5. In addition, the USFS has been designated a cooperating agency. Western invites interested agencies, Tribes, organizations, and members of the public to submit comments or suggestions to assist in identifying environmental issues and in determining the appropriate scope of the EIS. Western will invite other Federal, State, local, and tribal agencies with jurisdiction by law or special expertise, with respect to environmental issues, to be cooperating agencies on the EIS, as defined in 40 CFR 1501.6. Such agencies also may make a request to Western to be a cooperating agency. Designated cooperating agencies have certain responsibilities to support the NEPA process, as specified in 40 CFR 1501.6(b).

Environmental Issues

The EIS will address impacts from the proposed project and a range of reasonable alternatives that achieve that same purpose and need. This notice is to inform agencies and the public of the proposed project and solicit comments and suggestions for consideration in preparing the EIS. To help the public frame its comments, this notice contains a list of potential environmental issues Western has tentatively identified for analysis. These issues include:

1. Impacts on protected, threatened, endangered, or sensitive species of animals or plants or their critical habitats;

2. Impacts on other biological resources;

3. Impacts on land use, recreation, and transportation;

4. Impacts on floodplains and wetlands;

5. Impacts on cultural or historic resources and tribal values;

6. Impacts on human health and safety;

7. Impacts on air, soil, and water resources (including air quality, surface water impacts, and groundwater impacts);

8. Visual impacts; and

9. Socioeconomic impacts and disproportionately high and adverse impacts to minority and low-income populations.

This list is not intended to be all-inclusive or to imply any predetermination of impacts. Western invites interested parties to suggest specific issues within these general categories, or other issues not included above, to be considered in the EIS.

Public Participation

Opportunities for public participation are planned for the entire EIS process. Western anticipates the EIS process will take about 12 months and will include an open-house public scoping meeting; consultation and involvement with appropriate Federal, State, local, and tribal agencies; public review and hearing on the published Draft EIS; a published Final EIS; and publication of a Record of Decision. Western will mail newsletters to the mailing list developed for the proposed project to communicate project status and developments. Anyone may request to be placed on the mailing list.

The scoping period will provide opportunity for interested members of the public, representatives of groups, and Federal, State, local, and tribal agencies to give input on the scope of alternatives and issues that will be addressed in the EIS. As part of the scoping period, Western will hold a public open-house scoping meeting near the project area. Interested individuals and groups are invited to attend anytime between 4 and 7 p.m., according to the date and location noted above. The open-house scoping meeting will be informal, with Western representatives available for one-on-one discussions with attendees. Attendees will have the opportunity to view maps of the proposed transmission line route, learn about the NEPA process and the proposed schedule, suggest changes and improvements to the proposed project, and obtain additional information. Written comments regarding environmental issues, alternatives, and other scoping issues may be turned in at the scoping meetings or may be provided to Western by fax, e-mail, U.S. Postal Service, or other carrier. Although comments on the proposed project may be submitted at any time during the EIS process, to be assured consideration in helping define the scope of the EIS, all comments or suggestions regarding the appropriate scope must be received by the end of the scoping period. Comments received by Western at or as a result of the July 28, 2005, and November 15, 2006, open houses will be used to help define the scope of the EIS.

Dated: July 30, 2007.
Timothy J. Meeks,
Administrator.

[FR Doc. E7-15666 Filed 8-9-07; 8:45 am]

BILLING CODE 6450-01-P